DEPARTMENT OF LABOR

Occupational Safety and Health Administration

[Docket No. NRTL4-93]

Underwriters Laboratories Inc., Expansion of Recognition

AGENCY: Occupational Safety and Health Administration (OSHA), Labor.

ACTION: Notice.

SUMMARY: This notice announces the Agency's final decision on the applications of Underwriters Laboratories Inc. for expansion of its recognition as a Nationally Recognized Testing Laboratory under 29 CFR 1910.7.

EFFECTIVE DATE: This recognition becomes effective on March 25, 2003, and, unless modified in accordance with 29 CFR 1910.7, continues in effect while UL remains recognized by OSHA as an NRTL.

FOR FURTHER INFORMATION CONTACT: Sherrey Nicolas, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of Underwriters Laboratories Inc. (UL) as a Nationally Recognized Testing Laboratory (NRTL). UL's expansion covers the use of three additional testing sites. OSHA's current scope of recognition for UL may be found in the following informational Web page: http://www.osha-slc.gov/dts/otpca/nrtl/ul.html.

OSHA recognition of an NRTL signifies that the organization has met the legal requirements in section 1910.7 of title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

UL submitted an application, dated November 8, 2001 (see Exhibit 27), to expand its recognition to include a site in Seoul, Korea, and another application, dated March 15, 2002 (see Exhibit 27-1), to expand its recognition to include a site in Neu-Isenburg, Germany, and a site in Veenendaal, Netherlands. The NRTL Program staff performed an on-site review (assessment) of the Korea facility on March 11-14, 2002. In the on-site review report, dated May 23, 2002 (see Exhibit 28), the program staff recommended a “positive finding,” which means a positive recommendation on the recognition to the Assistant Secretary. However, the Agency delayed consideration of the application in order to combine it for processing purposes with the application that had by then been received for the two additional sites listed above. The NRTL Program staff performed an on-site review (assessment) of the Netherlands facility on June 11-14, 2002, and an on-site review (assessment) of the Germany facility on June 18-21, 2002. In each on-site review report, dated September 27 and 30, 2002 (see Exhibits 28 and 28-1), respectively, the program staff recommended a “positive finding.” OSHA published the notice of its preliminary findings on the expansion request in the Federal Register on January 6, 2003 (68 FR 583). The notice requested submission of any public comments by January 21, 2003. OSHA did not receive any comments pertaining to the application.

The previous notice published by OSHA for UL's recognition covered a renewal and expansion of recognition, which became effective on May 8, 2002 (67 FR 30966).

The current addresses of the UL facilities (sites) already recognized by OSHA are:

Underwriters Laboratories Inc., 333 Pfingsten Road, Northbrook, Illinois 60062.

Underwriters Laboratories Inc., 1285 Walt Whitman Road, Melville, Long Island, New York11747.

Underwriters Laboratories Inc., 1655 Scott Boulevard, Santa Clara, California 95050.

Underwriters Laboratories Inc., 12 Laboratory Drive, P.O. Box 13995, Research Triangle Park, North Carolina 27709.

Underwriters Laboratories Inc., 2600 NW. Lake Road, Camas, Washington, 98607.

UL International Limited, Veristrong Industrial Centre, Block B, 14th Floor, 34 Au Pui Wan Street, Fo Tan Sha Tin, New Territories, Hong Kong.

UL International Services, Ltd., Taiwan Branch, 4th Floor, 260 Da-Yeh Road, Pei Tou DistrictTaipei City, Taiwan.

UL International Demko A/S, Lyskaer 8, P.O. Box 514, DK-2730, Herlev, Denmark.

Underwriters Laboratory International (U.K.) Ltd., Wonersh House, The Guildway, Old Portsmouth RoadGuildford, Surrey GU3 1LR, United Kingdom.

Underwriters Laboratory International Italia S.r.l., Via Archimede 42, 1-20041 Agrate Brianza, Milan, Italy. Testing facility: Z.I. Predda Niedda st. 18, I-07100, Sassari, Italy.

Underwriters Laboratories of Canada, 7 Crouse Road, Scarborough, Ontario, Canada MIR 3A9.

UL Japan Co., Ltd., Shimbashi Ekimae Bldg.—1 Gohkan, 4th floor, Room 402, 2-20-15 Shimbashi Minato Ku, Tokyo 105-0004, Japan.

The current addresses of the three additional UL sites covered by the expansion are:

UL Korea, Ltd., #805, Manhattan Building 36-2, Yeoui-dong, Yeoungdeungpo-gu, Seoul 150-010, Korea.

UL International Germany GmbH, Frankfurter Strasse 229, D-63263 Neu-Isenburg, Germany.

UL International (Netherlands) B.V., Landjuweel 52, NL-3905 PH Veenendaal, Netherlands.

Final Decision and Order

The NRTL Program staff has examined the applications, the assessor's reports, and other pertinent information. Based upon this examination and the assessor's recommendation, OSHA finds that Underwriters Laboratories Inc. has met the requirements of 29 CFR 1910.7 for expansion of its recognition to include the above additional sites subject to the limitation and conditions, listed below. Pursuant to the authority in 29 CFR 1910.7, OSHA hereby expands the recognition of UL, subject to this limitation and these conditions.

Limitation

Recognition of Facilities

The applications contain sufficient information demonstrating the testing capabilities of the Korean, German, and Netherlands sites listed above. OSHA's recognition of the additional sites would not be limited to any particular test standards. However, recognition of these sites would be limited to performing product testing only to the test standards for which each site has the proper capability and programs, and for which OSHA has recognized UL. This treatment is consistent with the recognition that OSHA has granted to other NRTLs that operate multiple sites. In addition, OSHA would permit the sites to use all eight of the “supplemental” programs, although not all programs would necessarily be used in the near future. UL's scope of recognition already includes these programs.

OSHA developed the programs to limit how an NRTL may perform certain aspects of its work and to permit the activities covered under the programs only when the NRTL meets certain criteria. In this sense, they are special conditions that the Agency places on an NRTL's recognition. OSHA does not consider these programs in determining whether an NRTL meets the requirements for recognition under 29 CFR 1910.7. However, these programs help to define the scope of that recognition.

Conditions

UL must also abide by the following conditions of the recognition, in addition to those already required by 29 CFR 1910.7:

OSHA must be allowed access to UL's facility and records for purposes of ascertaining continuing compliance with the terms of its recognition and to investigate as OSHA deems necessary;

If UL has reason to doubt the efficacy of any test standard it is using under this program, it must promptly inform the test standard developing organization of this fact and provide that organization with appropriate relevant information upon which its concerns are based;

UL must not engage in or permit others to engage in any misrepresentation of the scope or conditions of its recognition. As part of this condition, UL agrees that it will allow no representation that it is either a recognized or an accredited Nationally Recognized Testing Laboratory (NRTL) without clearly indicating the specific equipment or material to which this recognition is tied, or that its recognition is limited to certain products;

UL must inform OSHA as soon as possible, in writing, of any change of ownership, facilities, or key personnel, and of any major changes in its operations as an NRTL, including details;

UL will meet all the terms of its recognition and will always comply with all OSHA policies pertaining to this recognition;

UL will continue to meet the requirements for recognition in all areas where it has been recognized.

Signed in Washington, DC, this 25th day of February, 2003.
John L. Henshaw,
Assistant Secretary.

[FR Doc. 03-7015 Filed 3-24-03; 8:45 am]

BILLING CODE 4510-26-P